DEPARTMENT OF ENERGY

Federal Energy Regulatory Commission

Combined Notice of Filings #2

Take notice that the Commission received the following electric rate filings:

Docket Numbers: ER10-1817-003.

Applicants: Southwestern Public Service Company.

Description: Second Supplement to June 29, 2012 Triennial Market Power Analysis of Southwestern Public Service Company.

Filed Date: 4/1/13.

Accession Number: 20130401-5222.

Comments Due: 5 p.m. ET 4/22/13.

Docket Numbers: ER12-1175-000.

Applicants: Midwest Independent Transmission System Operator, Inc.

Description: Midwest Independent Transmission System Operator, Inc. submits a status report and waiver extension request.

Filed Date: 10/23/12.

Accession Number: 20121023-5131.

Comments Due: 5 p.m. ET 4/8/13.

Docket Numbers: ER13-607-001.

Applicants: Potomac Electric Power Company, Delmarva Power & Light Company, PJM Interconnection, L.L.C.

Description: Potomac Electric Power Company submits Pepco & DPL submit Compliance filing per 2/28/2013 Order in ER13-607 to be effective 3/1/2013.

Filed Date: 4/1/13.

Accession Number: 20130401-5256.

Comments Due: 5 p.m. ET 4/22/13.

Docket Numbers: ER13-752-002.

Applicants: Energy Storage Holdings, LLC.

Description: Energy Storage Holdings, LLC submits Second Amendment to Energy Storage Holdings, LLC MBR Application to be effective 1/12/2013.

Filed Date: 4/1/13.

Accession Number: 20130401-5168.

Comments Due: 5 p.m. ET 4/22/13.

Docket Numbers: ER13-1118-001.

Applicants: Oklahoma Gas and Electric Company.

Description: Oklahoma Gas and Electric Company submits Rate Schedule No. 106 to be effective 5/31/2013.

Filed Date: 4/1/13.

Accession Number: 20130401-5165.

Comments Due: 5 p.m. ET 4/22/13.

Docket Numbers: ER13-1209-000.

Applicants: New England Power Pool Participants Committee.

Description: New England Power Pool Participants Committee submits Apr 2013 Membership Filing to be effective 4/1/2013.

Filed Date: 4/1/13.

Accession Number: 20130401-5106.

Comments Due: 5 p.m. ET 4/22/13.

Docket Numbers: ER13-1210-000.

Applicants: Westar Generating, Inc.

Description: Westar Generating, Inc. submits Purchase Power Agreement with Westar Energy, Inc. to be effective 7/1/2013.

Filed Date: 4/1/13.

Accession Number: 20130401-5110.

Comments Due: 5 p.m. ET 4/22/13.

Docket Numbers: ER13-1211-000.

Applicants: Public Service Company of New Mexico.

Description: Public Service Company of New Mexico submits Modification of Real Power Loss Factor SA to be effective 6/1/2013.

Filed Date: 4/1/13.

Accession Number: 20130401-5171.

Comments Due: 5 p.m. ET 4/22/13.

Docket Numbers: ER13-1212-000.

Applicants: Public Service Company of New Mexico.

Description: Public Service Company of New Mexico Modification of Real Power Loss Factor in OATT to be effective 6/1/2013.

Filed Date: 4/1/13.

Accession Number: 20130401-5173.

Comments Due: 5 p.m. ET 4/22/13.

Docket Numbers: ER13-1213-000.

Applicants: Public Service Company of New Mexico.

Description: Public Service Company of New Mexico submits Cancellation of Service Agreement to be effective 6/1/2013.

Filed Date: 4/1/13.

Accession Number: 20130401-5174.

Comments Due: 5 p.m. ET 4/22/13.

Docket Numbers: ER13-1214-000.

Applicants: NV Energy, Inc.

Description: NV Energy, Inc. submits OATT Revisions to Schedule 04—Energy Imbalance—Compliance Filing to be effective 3/1/2013.

Filed Date: 4/1/13.

Accession Number: 20130401-5201.

Comments Due: 5 p.m. ET 4/22/13.

Docket Numbers: ER13-1215-000.

Applicants: Wolverine Power Supply Cooperative, Inc.

Description: Wolverine Power Supply Cooperative, Inc. submits Normal filing schedule no 16 to be effective 4/1/2013.

Filed Date: 4/1/13.

Accession Number: 20130401-5217.

Comments Due: 5 p.m. ET 4/22/13.

Docket Numbers: ER13-1216-000.

Applicants: Southern California Edison Company.

Description: Southern California Edison Company submits Unexecuted LGIA with CalWind Resources, Inc. for Pajuela Peak Wind Park Project to be effective 3/29/2013.

Filed Date: 4/1/13.

Accession Number: 20130401-5233.

Comments Due: 5 p.m. ET 4/22/13.

Docket Numbers: ER13-1217-000.

Applicants: PJM Interconnection, L.L.C.

Description: PJM Interconnection, L.L.C. submits Queue Position W4-084; Original Service Agreement No. 3520 to be effective 3/1/2013.

Filed Date: 4/1/13.

Accession Number: 20130401-5235.

Comments Due: 5 p.m. ET 4/22/13.

Docket Numbers: ER13-1218-000.

Applicants: PJM Interconnection, L.L.C.

Description: PJM Interconnection, L.L.C. submits Queue Position W4-086; Original Service Agreement No. 3521 to be effective 3/1/2013.

Filed Date: 4/1/13.

Accession Number: 20130401-5237.

Comments Due: 5 p.m. ET 4/22/13.

Docket Numbers: ER13-1219-000.

Applicants: Public Service Company of New Mexico.

Description: Application of Public Service Company of New Mexico to Terminate OATT Service Agreement with Third Planet Wind Gladstone, LLC.

Filed Date: 4/1/13.

Accession Number: 20130401-5251.

Comments Due: 5 p.m. ET 4/22/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 1, 2013.
Nathaniel J. Davis, Sr.,
Deputy Secretary.

[FR Doc. 2013-08056 Filed 4-5-13; 8:45 am]

BILLING CODE 6717-01-P